DEPARTMENT OF AGRICULTURE

Natural Resources Conservation Service

Environmental Statements, Availability

AGENCY: Natural Resources Conservation Service, USDA.

ACTION: Notice of availability.

SUMMARY: The Natural Resources Conservation Service (NRCS) has prepared a Draft Areawide Environmental Impact Statement consistent with the National Environmental Policy Act of 1969, as amended, to disclose potential effects to the human environment.

The Watershed Plan and Areawide Environmental Impact Statement (EIS) for the Cape Cod Water Resources Restoration Project are combined into a single document. The purposes of the Project are to restore degraded salt marshes, restore anadromous fish passages, and improve water quality for shellfishing areas. Specifically, sponsors wish to:

1. Improve tidal flushing in salt marshes where man-made obstructions (i.e., road culverts) have restricted tidal flow. This will help restore native plant and animal communities in salt marshes, and improve biotic integrity.

2. Restore fish ladders and other fish passages that have deteriorated. This will allow greater numbers of anadromous fish (which spend most of their adult lives in salt water and migrate to freshwater streams, rivers, and lakes to reproduce; for example, alewife, blueback herring) to gain access to spawning areas, and support greater populations of other species (for example, striped bass, bluefish, weakfish, largemouth bass, chain pickerel) that depend on them for food.

3. Maintain and improve water quality affecting shellfish beds by treating stormwater runoff. This will help ensure that shellfish beds which are threatened with closure remain open, and maintain or extend the current shellfishing season for beds whose use is restricted during certain times of year.

This Project is needed because human activity on Cape Cod has degraded its natural resources, including salt marshes, anadromous fish runs, and water quality over shellfish beds. The development of Cape Cod has required the construction of extensive road and railroad networks. Along the coast, culverts or bridges were needed for these networks to cross tidal marshes, and many of the openings through these structures are not large enough to allow adequate tidal flushing. When the culverts or bridges constrict flow, the tidal regime changes, which results in vegetation changes over time; what was once a thriving salt marsh can become a brackish or fresh water wetland dominated by invasive species. Together with funding from the Massachusetts Office of Coastal Zone Management (CZM), the Cape Cod Commission and the Buzzards Bay Project National Estuary Program identified over 182 sites where salt marshes have been altered by human activity.

Human activity on Cape Cod has also resulted in damming or diverting streams, causing anadromous fish to lose access to spawning grounds. In addition, water flow may have been altered by cranberry growers and other farmers. Fish ladders and other fish passage facilities have been built to help ensure that fish get access to spawning areas, but these structures deteriorate over time (end of design life), or they may be of obsolete design and need replacement to function properly. The Massachusetts Division of Marine Fisheries (DMF) identified 93 fish passage obstructions on Cape Cod.

Cape Cod's economy depends on good water quality. Shellfishing, a multi-million dollar industry on the Cape, is only allowed in areas with excellent water quality. As land is developed, and more areas are paved, stormwater runoff may become contaminated with nutrients, metals, fertilizers, bacteria, etc. This runoff may carry enough fecal coliform bacteria to affect water quality in shellfishing areas, thus leading to closure of shellfishing areas, or restrictions on the periods when the beds can remain open. DMF and town officials identified over 160 stormwater discharge points into shellfishing areas. By controlling sources of runoff, separating clean water from contamination sources, and capturing and treating the most heavily contaminated runoff through a variety of measures (e.g., infiltration, constructed wetlands).

Two alternatives were considered: Proposed Action/Recommended Plan and the No action alternative.

No Action would continue the declining trend of water quality of shellfish waters, impaired anadromous fish runs and degraded salt marshes.

The recommended plan is the Proposed Action (Cape Cod Water Resources Restoration Project) because it maximizes ecological benefits and is the National Ecosystem Restoration (NER) Plan. The Recommended Plan achieves the desired level of improvement for the least cost. For each project type (shellfish, fish passage, and salt marsh), the Restoration Project would provide a greater number of habitat units and greater other environmental benefits than the No Action Alternative. NRCS has developed a list of 76 projects that will meet the sponsors' objectives. All of these projects have received a planning-level analysis to ensure that they appear feasible and capable of providing the habitat benefits sought through this areawide Project. When the Project is authorized and funded, the sponsors will propose specific projects to NRCS. NRCS will review each project in more detail to determine the most cost-effective practice for that site and to verify that the habitat objectives will be achieved.

The recommended plan would help to maintain or improve water quality in up to 26 shellfish areas affecting 7,300 acres of shellfish beds. Current laws and regulations require stormwater management for all new developments, which prevents or minimizes new development from causing the same water quality impairments that occurred in the past. The Project is expected to improve tidal flushing at 26 sites enhancing 1,500 acres of salt marsh. Current design guidelines prevent or minimize road or railroad construction from causing the same hydrological restrictions that occurred in the past. And through this Project it is expected that 24 fish passages on Cape Cod would be restored to full function improving access to 4,200 acres of spawning habitat.

Written comments regarding this Draft Areawide EIS should be mailed to: Cecil B. Currin, Cape Cod Water Resources Restoration Project EIS, USDA-NRCS, 451 West Street, Amherst, MA 01002. Comments may also be submitted by sending a facsimile to (413) 253-4395 or by e-mail to cecil.currin@ma.usda.gov. Please include CCWRRP in the subject line.

Project information is also available on the Internet at http://www.ma.nrcs.usda.gov/programs/CCWRRP.

DATES: Comments must be received no later than 45 days after this notice is published.

FOR FURTHER INFORMATION CONTACT: Cecil B. Currin, State Conservationist, USDA Natural Resources Conservation Service, 451 West Street, Amherst, MA 01002, (413) 253-4350. Project information is also available on the Internet at: http://www.ma.nrcs.usda.gov/programs/CCWRRP.

SUPPLEMENTARY INFORMATION: Copies of the Draft EIS are available by request at the address above. Basic data maybe viewed by contacting Carl Gustafson, State Conservation Engineer, USDA Natural Resources Conservation Service, 451 West Street, Amherst, MA 01002, (413) 253-4362, carl.gustafson@ma.usda.gov.

Signed in Amherst, Massachusetts, on July 19, 2006.
Bruce Thompson,
Acting State Conservationist.

[FR Doc. E6-12354 Filed 7-31-06; 8:45 am]

BILLING CODE 3410-16-P